DEPARTMENT OF THE INTERIOR

National Park Service

[NPS-WASO-BSAD-CONC-13365; PPWOBSADC0, PPMVSCS1Y.Y00000]

Proposed Information Collection; National Park Service Leasing Program

AGENCY: National Park Service, Interior.

ACTION: Notice; request for comments.

SUMMARY: We (National Park Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on February 28, 2014. We may not conduct or sponsor and a person is not required to respond to a collection of information unless it displays a currently valid OMB control number.

DATES: To ensure that we are able to consider your comments on this IC, we must receive them by December 23, 2013.

ADDRESSES: Send your comments on the IC to Madonna L. Baucum, Information Collection Clearance Officer, National Park Service, 1849 C Street NW., (2601), Washington, DC 20240 (mail); or madonna_baucum@nps.gov (email). Please include “1024-0233” in the subject line of your comments.

FOR FURTHER INFORMATION CONTACT: To request additional information about this IC, contact Ben Erichsen at (202) 513-7156 (telephone) or at Ben_Erichsen@nps.gov (email).

SUPPLEMENTARY INFORMATION: I. Abstract. The National Park Service leasing program allows the public to lease property located within the boundaries of the park system, under the authority of the Director of the National Park Service. A lease may not authorize an activity that could be authorized by a concessions contract or commercial use authorization. All leases must provide for the payment of fair market value rent. The Director may retain rental payments for park infrastructure needs and, in some cases, to provide administrative support of the leasing program.

Our authority to collect information for the leasing program is derived from section 802 of the National Parks Omnibus Management Act of 1998 (P.L. 105-391), the National Historic Preservation Act (P.L. 89-665), and Title 36, Code of Federal Regulations, section 18 (36 CFR 18). For competitive leasing opportunities, the regulations require the submission of proposals or bids by parties interested in applying for a lease. The regulations also require that the Director approve lease amendments, construction or demolition of structures, and encumbrances on leasehold interests.

We collect Information from anyone who wishes to submit a bid or proposal to lease a property. The Director may issue a request for bids if the amount of rent is the only criterion for award of a lease. The Director issues a request for proposals when the award of a lease is based on selection criteria other than the rental rate. A request for proposals may be preceded by a request for qualifications to select a “short list” of potential offerors that meet minimum management, financial, and other qualifications necessary for submission of a proposal.

The Director may enter into negotiations for a lease with nonprofit organizations and units of government without soliciting proposals or bids. In those cases, the Director collects information from the other party regarding the planned use of the premises, potential modifications to the premises, and other information as necessary to support a decision on whether or not to enter into a lease.

We also collect Information from existing leaseholders who seek to:

• Sublet a leased property or assign the lease to a new lessee.

• Construct or demolish portions of a leased property.

• Amend a lease to change the type of activities permitted under the lease.

• Encumber (mortgage) the leased premises.

We use the information to evaluate offers, proposed subleases or assignments, proposed construction or demolition, the merits of proposed lease amendments, and proposed encumbrances. The completion times for each information collection requirement vary substantially depending on the complexity of the leasing opportunity.

II. Data

OMB Control Number: 1024-0233.

Title: National Park Service Leasing Program, 36 CFR 18.

Service Form Number(s): None.

Type of Request: Revision of a currently approved collection.

Description of Respondents: Individuals and businesses.

Respondent's Obligation: Required to obtain or retain a benefit.

Frequency of Collection: On occasion.

Activity | Number of respondents | Number of annual responses | Completion time per response | Total annual burden hours
Proposals, Bids, Qualifications
Complex | 10 | 10 | 40 | 400
Simple | 10 | 10 | 8 | 80
Requests to Sublet/Assign Lease
Complex | 1 | 1 | 40 | 40
Simple | 4 | 4 | 8 | 32
Construction/Demolition Requests
Complex | 2 | 2 | 32 | 64
Simple | 1 | 1 | 12 | 12
Amendments | 2 | 2 | 4 | 8
Encumbrance Requests
Complex | 2 | 2 | 40 | 80
Simple | 2 | 2 | 8 | 16
Totals | 34 | 34 |  | 732

Estimated Annual Nonhour Cost Burden: None.

III. Comments

We invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, email address, or other personal identifying information in your comment, you should be aware that your entire comment, including your personal identifying information, may be made publicly available at any time. While you can ask us in your comment to withhold your personal identifying information from public review, we cannot guarantee that we will be able to do so.

Dated: September 30, 2013.
Madonna L. Baucum,
Information Collection Clearance Officer, National Park Service.

[FR Doc. 2013-24589 Filed 10-21-13; 8:45 am]

BILLING CODE 4310-EH-P